Title 3—

The President

Memorandum of September 28, 2011

Provision of Aviation Insurance Coverage for Commercial Air Carrier Service in Domestic and International Operations

Memorandum for the Secretary of Transportation

By the authority vested in me as President by the Constitution and the laws of the United States, including 49 U.S.C. 44301-44310, I hereby:

1. Determine that the continuation of U.S. commercial air transportation is necessary in the interest of air commerce, national security, and the foreign policy of the United States.

2. Approve the provision by the Secretary of Transportation of insurance or reinsurance to U.S. air carriers against loss or damage arising out of any risk from the operation of an aircraft in the manner and to the extent provided in chapter 443 of title 49 of the U.S. Code until September 30, 2012, when he determines such insurance or reinsurance cannot be obtained on reasonable terms and conditions from any company authorized to conduct an insurance business in a State of the United States.

You are directed to bring this determination immediately to the attention of all air carriers, as defined in 49 U.S.C. 40102(a)(2), and to arrange for its publication in the Federal Register.

THE WHITE HOUSE,

Washington, September 28, 2011

[FR Doc. 2011-25649

Filed 9-30-11; 11:15 am]

Billing code 4910-9-P